DEPARTMENT OF HEALTH AND HUMAN SERVICES

Administration for Children and Families

Submission for OMB Review; Comment Request

Title: Case Plan Requirement, Section 422, 471(a) (16) and 475(5) (A) of the Social Security Act.

OMB No.: 0980-0140.

Description: Under section 471(a) (16) of title IV-E of the Social Security Act (the Act), to be eligible for payments States must have an approved State plan that provides for the development of a case plan [as defined in section 475(1)] for each child receiving foster care maintenance payments, and that provides a case review system that meets the requirements is section 475(5) and 475(6). Through these requirements, States also comply, in part, with title IV-B, section 422(b) (10) of the Act, which assures certain protections for children in foster care.

Respondents: State title IV-B and title IV-E Agencies.

Annual Burden Estimates
Instrument | Number of respondents | Number of responses per respondent | Average burden hours per response | Total burden hours
Case Plan | 714,056 | 1 | 2.62 | 1,872,392
Estimated Total Annual Burden Hours |  |  |  | 1,872,392

Additional Information:

Copies of the proposed collection may be obtained by writing to The Administration for Children and Families, Office of Information Services, 370 L'Enfant Promenade, SW., Washington, DC 20447, Attn: ACF Reports Clearance Officer.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: March 23, 2001.
Bob Sargis,
Reports Clearance Officer.

[FR Doc. 01-7684 Filed 3-28-01; 8:45 am]

BILLING CODE 4184-01-M